DEPARTMENT OF ENERGY

Federal Energy Regulatory Commission

[Docket No. RM16-17-000]

Data Collection for Analytics and Surveillance and Market-Based Rate Purposes; Notice of Extension of Time

On May 6, 2020, the Edison Electric Institute (EEI) submitted a motion requesting that the Commission extend the effective date of Order No. 860 and the deployment of the market-based rate database (MBR Database) by four months to February 1, 2021 and the due date for initial baseline submission until June 1, 2021.

EEI asserts that good cause exists to grant the extension because the disruption caused by the COVID-19 pandemic creates challenges in meeting the implementation schedule established in Order No. 860.

Upon consideration, notice is hereby given that the effective date of Order No. 860 is extended to and including six months to April 1, 2021, and the deadline for baseline submissions is extended to and including August 2, 2021. Further, other implementation dates in Order No. 860 are extended as shown in the attached appendix.

Dated: May 20, 2020.
Kimberly D. Bose,
Secretary.

Appendix

Activity | Order No. 860 schedule | Revised, six-month extension schedule
Testing period for the MBR Database | Through Sept. 30, 2020 | Through Mar. 31, 2021.
Effective date of Order No. 860 | Oct. 1, 2020 | Apr. 1, 2021.
“Go-live” date of MBR Database | Oct. 1, 2020 | Apr. 1, 2021.
Sellers should create needed identifiers (FERC Generated IDs and Asset IDs) in the MBR Portal and prepare their baseline submissions | Oct. 1, 2020-Dec. 31, 2020 | Apr. 1, 2021-June 30, 2021.
Baseline submissions are due | By Feb. 1, 2021 | By Aug. 2, 2021.
First change in status filings under new timelines are due | By Feb. 28, 2021 | By Aug. 31, 2021.

[FR Doc. 2020-11332 Filed 5-26-20; 8:45 am]

BILLING CODE 6717-01-P